ENVIRONMENTAL PROTECTION AGENCY

40 CFR Part 52

[IN117-1b; FRL-6708-1]

Approval and Promulgation of State Implementation Plans; Indiana

AGENCY: Environmental Protection Agency (EPA).

ACTION: Proposed rule.

SUMMARY: EPA is proposing to approve nine negative declarations submitted by the State of Indiana on November 8, 1999, and January 10, 2000. Each of these negative declarations concerns sources located in Lake and Porter Counties which are classified as a severe nonattainment area for the pollutant ozone. Each of the negative declarations indicates that the State has searched its emissions source inventory for Lake and Porter Counties and determined that there are no unregulated sources with a potential to emit 25 tons per year or more of volatile organic compounds (VOC) in the following source categories: aerospace coating operations, industrial clean up solvents, industrial wastewater processes, offset lithographic operations, business plastics, automotive plastics, and synthetic organic chemical manufacturing industries (SOCMI) batch processes, reactors and distillation units.

DATES: Written comments must be received on or before July 10, 2000.

ADDRESSES: Written comments should be mailed to: J. Elmer Bortzer, Chief, Regulation Development Section, Air Programs Branch (AR-18J), Environmental Protection Agency, Region 5, 77 West Jackson Boulevard, Chicago, Illinois 60604.

Copies of the State submittal are available for inspection at: Regulation Development Section, Air Programs Branch (AR-18J), Environmental Protection Agency, Region 5, 77 West Jackson Boulevard, Chicago, Illinois 60604.

FOR FURTHER INFORMATION CONTACT: Randolph O. Cano, Environmental Protection Specialist, Regulation Development Section, Air Programs Branch (AR-18J), Environmental Protection Agency, Region 5, 77 West Jackson Boulevard, Chicago, Illinois 60604, (312) 886-6036.

SUPPLEMENTARY INFORMATION: Throughout this document wherever “we”, “us” or “our” are used we mean EPA.

Table of Contents

I. What action is EPA taking today?

II. Where can I find more information about this proposal and the corresponding direct final rule?

I. What Action Is EPA Taking Today?

EPA is proposing to approve nine negative declarations submitted by the State of Indiana on November 8, 1999, and January 10, 2000. Each of these negative declarations concerns a category of sources located in Lake and Porter Counties which are classified as a severe nonattainment area for the pollutant ozone. Each of the negative declarations indicates that the State has searched its emissions source inventory for Lake and Porter Counties and determined that there are no unregulated sources with a potential to emit 25 tons per year or more of volatile organic compounds (VOC) in the following source categories: aerospace coating operations, industrial clean up solvents, industrial wastewater processes, offset lithographic operations, business plastics, automotive plastics, and synthetic organic chemical manufacturing industries (SOCMI) batch processes, reactors and distillation units.

II. Where Can I Find More Information About This Proposal and the Corresponding Direct Final Rule?

For additional information see the direct final rule published in the final rules section of this Federal Register.

Dated: May 24, 2000.
Francis X. Lyons,
Regional Administrator, Region 5.

[FR Doc. 00-13842 Filed 6-7-00; 8:45 am]

BILLING CODE 6560-50-P